DEPARTMENT OF HOUSING AND URBAN DEVELOPMENT

[Docket No. FR-5603-N-16]

Notice of Submission of Proposed Information Collection to OMB Application for the Resident Opportunities and Self Sufficiency (ROSS) Program

AGENCY: Office of the Chief Information Officer, HUD.

ACTION: Notice.

SUMMARY: The proposed information collection requirement described below has been submitted to the Office of Management and Budget (OMB) for review, as required by the Paperwork Reduction Act. The Department is soliciting public comments on the subject proposal.

Application for the ROSS grant program: Service Coordinators Program and Family Self-Sufficiency for Public Housing. Eligible applicants are PHAs, Tribes/TDHEs, Non-Profits and Resident Associations. Information collected will be used to evaluate applications and award grants through the HUD SuperNOFA process.

DATES: Comments Due Date: March 26, 2012.

ADDRESSES: Interested persons are invited to submit comments regarding this proposal. Comments should refer to the proposal by name and/or OMB approval Number (2577-0229) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette. Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title Of Proposal: Application for the Resident Opportunities and Self Sufficiency (ROSS) Program.

OMB Approval Number: 2577-0229.

Form Numbers: HUD-2994-A, HUD-2991, HUD 52753, HUD 52755, SF424, SF424 Supplement, HUD 52752, HUD 52754, HUD 2880, HuD 2990, HUD 96010, SF LLL, HUD-52769, HUD-52768, HUD-2993, HUD 52651.

Description of the Need for the Information and Its Proposed Use:

Application for the ROSS grant program: Service Coordinators Program and Family Self-Sufficiency for Public Housing. Eligible applicants are PHAs, Tribes/TDHEs, Non-Profits and Resident Associations. Information collected will be used to evaluate applications and award grants through the HUD SuperNOFA process.

Frequency of Submission: Annually.

| Number of respondents | Annual responses | × | Hours per response | = | Burden hours
Reporting Burden | 700 | 1 |  | 3.464 |  | 2,425

Total Estimated Burden Hours: 2,425.

Status: Revision of a currently approved collection.

Authority: Section 3507 of the Paperwork Reduction Act of 1995, 44 U.S.C. 35, as amended.

Dated: February 16, 2012.
Colette Pollard,
Departmental Reports Management Officer, Office of the Chief Information Officer.

[FR Doc. 2012-4206 Filed 2-22-12; 8:45 am]

BILLING CODE 4210-67-P